DEPARTMENT OF VETERANS AFFAIRS

Department of Veterans Affairs Guidance Document Database and Portal (Executive Order 13891)

AGENCY: Department of Veterans Affairs.

ACTION: Notice.

SUMMARY: The Department of Veterans Affairs (VA) is publishing this notice pursuant to Executive Order 13891 to announce and describe the database and public-facing portal that will contain VA's Guidance Documents, as described under the Executive Order.

FOR FURTHER INFORMATION CONTACT: Richard Murphy, Office of Policy and Interagency Collaboration, Office of Enterprise Integration, 810 Vermont Avenue NW, Washington, DC 20420, (202) 870-9518. (This is not a toll-free telephone number).

SUPPLEMENTARY INFORMATION: Pursuant to section 3 of Executive Order 13891, Promoting the Rule of Law Through Improved Agency Guidance Documents, dated October 9, 2019 (the Executive Order), VA has established a database and a public-facing portal that contains or links to all VA documents that it considers “Guidance Documents” under the Executive Order. The URL for this searchable portal is www.va.gov/guidance. All guidance documents remaining in effect will be contained in this guidance portal.

For each guidance document that VA publishes on its guidance website, VA will include the following information:

A concise name for the guidance document.

The date on which the guidance document was issued.

The date on which the guidance document was posted to the website.

An agency unique identifier.

A hyperlink to the guidance document.

The general topic addressed by the guidance document.

One or two sentences summarizing the guidance document's content.

In addition to the information associated with each guidance document, the website will include a clearly visible note stating that: (1) Guidance documents lack the force and effect of law, except as expressly authorized by statute or incorporated into a contract; and (2) VA may not cite, use, or rely on any guidance that is not posted on the website existing under the Executive Order, except to establish historical facts.

Signing Authority

The Secretary of Veterans Affairs approved this document and authorized the undersigned to sign and submit the document to the Office of the Federal Register for publication electronically as an official document of the Department of Veterans Affairs. Brooks D. Tucker, Acting Chief of Staff, Department of Veterans Affairs, approved this document on May 5, 2020, for publication.

Jeffrey M. Martin,
Assistant Director, Office of Regulation Policy & Management, Office of the Secretary, Department of Veterans Affairs.

[FR Doc. 2020-10019 Filed 5-8-20; 8:45 am]

BILLING CODE 8320-01-P